DEPARTMENT OF COMMERCE

National Institute of Standards and Technology

Prospective Grant of Exclusive Patent License

AGENCY: National Institute of Standards and Technology, Department of Commerce.

ACTION: Notice.

SUMMARY: The National Institute of Standards and Technology (NIST), U.S. Department of Commerce, is contemplating the grant of an exclusive license throughout the world, to NIST's interest in the invention embodied in PCT Application PCT\US18\20679, titled “Non-resonant Electron Spin Resonant Probe and Associated Hardware” (NIST Docket 17-017) to Global Resonance Technologies, LLC. The grant of the license would be for the manufacture and use of a system for determination of radiation dosimetry.

DATES: The prospective exclusive license may be granted unless NIST receives, by June 6, 2018, written evidence and argument which establish that the grant of the license would not be consistent with the requirements of 35 U.S.C. 209 and 37 CFR 404.7.

ADDRESSES: Information related to this license may be submitted to NIST, Technology Partnerships Office, 100 Bureau Drive, Stop 2200, Gaithersburg, MD 20899, or emailed to donald.archer@nist.gov.

FOR FURTHER INFORMATION CONTACT: Donald G. Archer, National Institute of Standards and Technology, Technology Partnerships Office, 100 Bureau Drive, Stop 2200, Gaithersburg, MD 20899, (301) 975-2522, donald.archer@nist.gov.

SUPPLEMENTARY INFORMATION: This is a notice in accordance with 35 U.S.C. 209(e) and 37 CFR 404.7(a)(1)(i) that NIST is contemplating the grant of an exclusive license throughout the world, to NIST's interest in the invention embodied in PCT Application PCT\US18\20679, titled “Non-resonant Electron Spin Resonant Probe and Associated Hardware” (NIST Docket 17-017) to Global Resonance Technologies, LLC. The grant of the license would be for the manufacture and use of a system for determination of radiation dosimetry.

The prospective exclusive license will be royalty bearing and will comply with the terms and conditions of 35 U.S.C. 209 and 37 CFR 404.7. The prospective exclusive license may be granted unless, within fifteen (15) days from the date of this published Notice, NIST receives written evidence and argument which establish that the grant of the license would not be consistent with the requirements of 35 U.S.C. 209 and 37 CFR 404.7. The Patent Application was filed on March 2, 2018 and describes a system and methods for determining radiation exposure.

Kevin A. Kimball,
Chief of Staff.

[FR Doc. 2018-10915 Filed 5-21-18; 8:45 am]

BILLING CODE 3510-13-P